DEPARTMENT OF ENERGY

Federal Energy Regulatory Commission

Combined Notice of Filings #2

Take notice that the Commission received the following electric rate filings:

Docket Numbers: ER14-2658-001.

Applicants: NV Energy, Inc.

Description: Compliance filing per 35: OATT Order No. 792 Compliance Filing-Revisions to Attachment O to be effective 8/4/2014.

Filed Date: 11/26/14.

Accession Number: 20141126-5244.

Comments Due: 5 p.m. ET 12/17/14.

Docket Numbers: ER15-52-002.

Applicants: Midcontinent Independent System Operator, Inc.

Description: Tariff Amendment per 35.17(b): 2014-11-26 GVTC Clean up Amendment Filing to be effective 12/6/2014.

Filed Date: 11/26/14.

Accession Number: 20141126-5200.

Comments Due: 5 p.m. ET 12/17/14.

Docket Numbers: ER15-118-001.

Applicants: Morris Cogeneration, LLC.

Description: Compliance filing per 35: Amendment Refile to be effective 10/17/2014.

Filed Date: 11/26/14.

Accession Number: 20141126-5153.

Comments Due: 5 p.m. ET 12/17/14.

Docket Numbers: ER15-502-000.

Applicants: Bayou Cove Peaking Power, LLC.

Description: § 205(d) rate filing per 35.13(a)(2)(iii): Reactive Service Rate Filing to be effective 2/1/2015.

Filed Date: 11/26/14.

Accession Number: 20141126-5213.

Comments Due: 5 p.m. ET 12/17/14.

Docket Numbers: ER15-503-000.

Applicants: Midcontinent Independent System Operator, Inc.

Description: § 205(d) rate filing per 35.13(a)(2)(iii): 2014-11-26_Rattlesnake SA 847-Wind Belt SA 852 Termination to be effective 11/27/2014.

Filed Date: 11/26/14.

Accession Number: 20141126-5214.

Comments Due: 5 p.m. ET 12/17/14.

Docket Numbers: ER15-504-000.

Applicants: PJM Interconnection, L.L.C.

Description: § 205(d) rate filing per 35.13(a)(2)(iii): Original Service Agreement No. 4035; Queue No. U2-028A_AT1 to be effective 10/27/2014.

Filed Date: 11/26/14.

Accession Number: 20141126-5215.

Comments Due: 5 p.m. ET 12/17/14.

Docket Numbers: ER15-505-000.

Applicants: Portland General Electric Company.

Description: Compliance filing per 35: NAESB Standards Compliance Filing to be effective 2/1/2015.

Filed Date: 11/26/14.

Accession Number: 20141126-5216.

Comments Due: 5 p.m. ET 12/17/14.

Docket Numbers: ER15-506-000.

Applicants: DeSoto County Generating Company, LLC.

Description: § 205(d) rate filing per 35.13(a)(2)(iii): Revised Reactive Rate Schedule to be effective 12/1/2014.

Filed Date: 11/26/14.

Accession Number: 20141126-5218.

Comments Due: 5 p.m. ET 12/17/14.

Docket Numbers: ER15-507-000.

Applicants: NorthWestern Corporation.

Description: Compliance filing per 35: OATT Order No. 676-H Compliance Filing and Request for Partial Waiver (Montana) to be effective 2/2/2015.

Filed Date: 11/26/14.

Accession Number: 20141126-5243.

Comments Due: 5 p.m. ET 12/17/14.

Docket Numbers: ER15-508-000.

Applicants: Southwest Power Pool, Inc.

Description: § 205(d) rate filing per 35.13(a)(2)(iii): 1887R3 Westar Energy, Inc. NITSA and NOA to be effective 8/1/2014.

Filed Date: 11/26/14.

Accession Number: 20141126-5246.

Comments Due: 5 p.m. ET 12/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2014-28466 Filed 12-3-14; 8:45 am]

BILLING CODE 6717-01-P